DEPARTMENT OF EDUCATION

Office of Safe and Drug-Free Schools; Overview Information; Safe and Supportive Schools; Notice Inviting Applications for New Awards for Fiscal Year (FY) 2010

Catalog of Federal Domestic Assistance (CFDA) Number: 84.184Y.

Dates:

Applications Available: July 9, 2010.

Deadline for Transmittal of Applications: August 9, 2010.

Full Text of Announcement

I. Funding Opportunity Description

Purpose of Program: Safe and Supportive Schools awards grants to State educational agencies (SEAs) to support statewide measurement of, and targeted programmatic interventions to improve, conditions for learning in order to help schools improve safety and reduce substance use.

Background: Our Nation's schools should be safe and secure settings where children can learn and grow to their full potential. Parents want and expect the schools their children attend to be safe. Unfortunately, data suggests that significant levels of violence, bullying, and other problems in schools create conditions that negatively impact learning. The most recent data on school crime and safety indicate that while the incidence of violent crimes in schools decreased from 1992 to 2007, students are now more likely to experience non-fatal crimes (including theft, simple assault, aggravated assault, rape, and sexual assault) in school than outside of school. During the 2007-2008 school year, 85 percent of public schools in the United States recorded that at least one crime occurred at their school.¹ Based on reported data, bullying in schools has increased in recent years. In 2001, 14 percent of students ages 12 through 18 reported that they had been bullied in school. By 2007, 32 percent of students ages 12 through 18 reported that they were bullied at school, and 4 percent reported having been bullied over the Internet (“cyber bullied”).² In addition, substance use remains a pervasive issue threatening student health. In 2007, 45 percent of high school students reported having consumed at least one drink of alcohol, while 20 percent reported using marijuana within the last 30 days.³

¹ Dinkes, R., Kemp, J., Baum, K. and Snyder, T.D. (2009). Indicators of School Crime and Safety: 2009 (NCES 2010-012/NCJ 228478) National Center for Education Statistics, Institute for Education Sciences, U.S. Department of Education, and Bureau of Justice Statistics, Office of Justice Programs, U.S. Department of Justice. Washington, DC: U.S. Government Printing Office.

² U.S. Department of Education. National Center for Education Statistics. Indicators of School Crime and Safety: 2009.

³ U.S. Department of Education. National Center for Education Statistics. Indicators of School Crime and Safety: 2009.

Disruptive aggressive behaviors such as bullying and violence create a hostile school environment that may interfere with the academic performance and mental health of students who are victims or witnesses. Students who are exposed to high levels of aggressive behavior and violence at school are more likely to disengage from school ⁴ and to experience clinical levels of mental and emotional disorders than are students who experience either no or low levels of violence at schools.⁵ Students who are bullied are also more likely to become truant from school ⁶ and have lower academic performance.⁷ Research indicates that the majority of school shooters had been previously bullied.⁸ Disruptive and aggressive behaviors in the classroom, and the resulting suspensions and expulsions, also diminish teachers' and students' instructional and learning time. Of the 271,800 serious disciplinary actions that were taken during the 2007-2008 school year for physical attacks or fights, 79 percent were out-of-school suspensions lasting five days or more.⁹

⁴ Bowen, N.K. & Bowen, G.L. (1999). Effects of crime and violence in neighborhoods and schools on the school behaviors and performance of adolescents. Journal of Adolescent Research, 14, 319-342.

⁵ Flannery, D.J., Wester, K.L. & Singer, M.I. (2004). Impact of exposures to violence in school on child and adolescent mental health and behavior. Journal of Community Psychology. 32, 559-573.

⁶ Smith, P.K. & Sharp, S. (1994). The problem of school bullying. In P.K. Smith & S. Sharp (Eds.) School Bullying: Insights and Perspectives. New York, NY: Routledge, pp. 1-19.

⁷ Glew, G., Fan, F., Katon, W., Rivara, F., Kernic, M. (2005). Bullying, psychosocial adjustement, and academic performance in elementary school. Arch Pediatr Adolesc Med, 159, 1026-1031.

⁸ Leary, M.R., Kowalski, R.M., Smith, L., & Phillips, S. (2003). Teasing, rejection, and violence: Case studies of the school shootings. Aggressive Behavior, 29, 202-214.

⁹ U.S. Department of Education. National Center for Education Statistics. 2007-2008 Survey on Crime and Safety (SSOCS), 2008.

To ensure that schools are safe places for students to learn, schools should understand the issues their communities face and the conditions that may influence student risk behaviors to best formulate intervention and prevention strategies. School communities are complex systems that include multiple stakeholders and interconnecting environmental factors that influence student health and safety. As such, comprehensive needs assessments of conditions for learning—including school engagement, school safety, and the school environment as elements evaluated—can provide educators with the data support needed to pursue comprehensive approaches to school reform. One element of conditions for learning is school engagement, including the relationships between the members of the school community and the extent to which members participate in school activities. For example, research shows that positive student-teacher relationships characterized by fairness and care are a protective factor against the initiation and escalation of cigarette smoking and alcohol use, and are associated with the cessation of weapon-related violence.¹⁰ In addition, increases in parent involvement have been associated with increases in social skills and decreases in behavioral problems among elementary school children.¹¹ Various aspects of the school environment, such as the physical, academic, and disciplinary environment, and the presence of health supports, may serve as another element. For example, research has indicated that student perceptions of the fairness and clarity of disciplinary procedures are associated with student delinquency, student victimization, and teacher victimization.¹² As schools implement programmatic interventions that target school engagement, school environment, and other factors related to conditions for learning, they may need school safety data, a third element, to help them determine the relative safety of their school over time and to decide what interventions, if any, might be appropriate. By monitoring indicators such as the frequency and severity of student risk behaviors and perceptions of school safety, schools may identify threats to school safety and then use this information to implement the appropriate intervention or program to improve school safety.

¹⁰ McNeely, C., Falci, C. (2004). School connectedness and the transition into and out of health-risk behavior among adolescents: A comparison of social belonging and teacher support. Journal of School Health, 74(7), 284-292.

¹¹ El Nokali, N., Bachman, H., Vortuba-Drzal, E. (2010). Parent involvement and children's academic and social development in elementary school. Child Development, 81(3), 988-1005.

¹² Gottfredson, G., Gottfredson, D., Payne, A., Gottfredson, N. (2005). School climate predictors of school disorder: Results from a national study of delinquency prevention in schools. Journal of Research in Crime and Delinquency. 42(4), 412-444.

A comprehensive picture of school health and safety can be created by utilizing needs assessments that include student perceptions and, where appropriate, parents and staff perceptions, to help schools identify key issues in need of attention. For example, research demonstrates that teachers' perceptions and attitudes toward bullying can significantly impact students' acceptance of and engagement in bullying behaviors.¹³ Efforts to increase parental engagement may be impacted by preexisting parental attitudes and perceptions.¹⁴ Including parents in the assessment process could help schools to understand these preexisting attitudes, which may inform schools decisions regarding how best to communicate with parents, and increase their engagement. Schools might consider examining parent attitudes of student behaviors as part of a parent engagement or parent education strategy to combat violence and substance use; research shows linkages between student perceptions of parental attitudes and student risk behaviors such as weapons carrying, schools fights,¹⁵ alcohol use, and tobacco use.¹⁶

¹³ Chang, L. (2003). Variable effects of children's aggression, social withdrawal, and prosocial leadership as a function of teacher beliefs and behaviors. Child Development, 74(2), 535-548; Henry, D., Guerra, N., Huesmann, R., Tolan, P., Van Acker, R., & Eron, L. (2000). Normative influences on aggression in urban elementary school classrooms. American Journal of Community Psychology, 28(1), 59-81.

¹⁴ Green, C., Walker, J. (2007). Parents' motivations for involvement in children's education: An empirical test of a theoretical model of parental involvement. Journal of Education Psychology, 99(3), 532-544.

¹⁵ Orpinas, P., Murray, N., Keider, S. (1999). Parental influences on students' aggressive behaviors and weapon carrying. Health Educ Behav, 26, 774-787.

¹⁶ Simons-Morton, B., Haynie, D., Crump, D., Eitel, P., Saylor, K. (2001). Peer and Parent Influences on Smoking and Drinking among Early Adolescents. Health Educ Behav, 28, 95-107.

Safe and Supportive Schools will provide grants to support statewide measurement of, and targeted programmatic interventions to improve, the conditions for learning by helping schools to reduce substance use and improve safety by managing the broad continuum of detrimental behaviors, including disruptive behaviors, violent crime, and substance use.

In the following sections, we announce an absolute priority, a competitive preference priority, and an invitational priority, and requirements for this competition as well as define key terms used in this notice.

Absolute Priority: We are establishing this absolute priority for the FY 2010 grant competition and any subsequent year in which we make awards from the list of unfunded applicants from this competition, in accordance with section 437(d)(1) of the General Education Provisions Act (GEPA), 20 U.S.C. 1232(d)(1). Under 34 CFR 75.105(c)(3) we consider only applications that meet this priority.

This priority is:

Grants to States to Improve Conditions for Learning.

This priority supports grants to SEAs for projects that take a systematic approach to improving conditions for learning in eligible schools through improved measurement systems that assess conditions for learning, which must include school safety, and the implementation of programmatic interventions that address problems identified by data.

Competitive Preference Priority: We are establishing this competitive preference priority for the FY 2010 grant competition and any subsequent year in which we make awards from the list of unfunded applicants from this competition in accordance with section 437(d)(1) of the General Education Provisions Act (GEPA), 20 U.S.C. 1232(d)(1). Under 34 CFR 75.105(c)(2)(i) we award an additional 5 points to an application that meets this priority.

This priority is:

Inclusion of School Engagement and School Environment in Needs Assessments Measuring Conditions for Learning (5 points).

To meet this priority, the applicant must propose to implement a measurement system that uses valid and reliable instruments to gather comprehensive data related to school engagement and school environment from students to assess conditions for learning.

Invitational Priority: We are establishing this invitational priority for the FY 2010 grant competition and any subsequent year in which we make awards from the list of unfunded applicants from this competition. Under 34 CFR 75.105(c)(1) we do not give an application that meets this invitational priority a competitive or absolute preference over other applications.

This priority is:

Family and Staff Inclusion in Needs Assessments Measuring School Engagement

Under this priority, we are interested in applications from SEAs that propose to implement a measurement system that uses valid and reliable instruments to gather comprehensive data from school staff and from students' families or guardians in order to assess school engagement.

Program Requirements: The following requirements apply to projects funded under this competition:

1. Measurement System

(a) Each grantee must implement a measurement system that—

(1) Collects survey data and incident data (as defined in this notice) from participating local educational agencies (LEAs) that have a combined student enrollment of no less than 20 percent of the State's total student enrollment;

(2) Collects student survey data from eligible schools to assess conditions for learning, which will include, at a minimum, school safety;

(3) Uses survey sampling procedures that collect data from a representative sample of the students in grades 9 and above within the eligible schools surveyed;

(4) Uses valid and reliable survey instruments (as defined in this notice);

(5) Collects the required survey data from all eligible schools in participating LEAs within the first 12 months of the project period and again during the final 12 months of the project period;

(6) Collects the required survey data from each eligible school selected to implement programmatic interventions (as defined in this notice) in each year of the project period;

(7) Collects incident data (as defined in this notice) from all eligible schools in participating LEAs in each year of the project period; and

(8) Allows the data to be summarized in ways that can be used to engage school staff and families or guardians in discussions of the results.

2. School Safety Scores

(a) Each grantee must generate a school safety score (as defined in this notice) for each eligible school in its participating LEAs, using both student survey data and incident data (as defined in this notice) that is disaggregated by school building, within the first 12 months of the project period and again during the final 12 months of the project period;

(b) Additionally, each grantee must generate a school safety score for each eligible school selected to implement programmatic interventions (as defined in this notice), using both student survey data and incident data (as defined in this notice) that is disaggregated at the school building level, in each year of the project period; and

(c) Each grantee must publicly report school safety scores for each eligible school in its participating LEAs after the initial year and final year of the project period, and for each year of the project period for eligible schools selected to implement programmatic interventions. To satisfy this requirement, each grantee must—

(i) Prior to the start of each school year, post school safety scores, generated from current data, on the Internet in a manner that is easily accessible to the general public; and

(ii) Within the first 12 months of the project period, post the formula used to generate school safety scores on the Internet in a manner that is easily accessible to the general public.

3. Implementing Programmatic Interventions and Technical Assistance Strategies

Each grantee must—

(a) In consultation with its participating LEAs, using criteria that incorporate student survey data and incident data from the measurement system, the list of persistently lowest-achieving schools (as defined in this notice), or both, select eligible schools in need of programmatic interventions (as defined in this notice);

(b) In consultation with its participating LEAs, implement programmatic interventions (as defined in this notice) in a number of eligible schools, located in participating LEAs, totaling no more than 20 percent of the total number of eligible schools in the State, to ensure that programmatic interventions are of sufficient size and scope;

(c) Provide its participating LEAs and eligible schools with technical assistance in using survey data to drive school improvement, including using data to assess areas in need of improvement, and identifying programmatic interventions to address these areas; and

(d) Use at least 80 percent of grant funds awarded in project years two, three, and four to carry out programmatic interventions (as defined in this notice) and related technical assistance.

Note: For the purposes of these program requirements, grantees may implement programmatic interventions that serve any student within an eligible school, including those students in grades 8 and below. Grantees are not required to survey students in grades 8 and below.

Application Requirements: The following requirements apply to all applications submitted under this competition. Applications that fail to meet any one of these requirements will not be read or scored. In its application, an applicant must—

(a) Identify the LEAs that will participate in the proposed project. If the LEAs that will participate have not been identified by the time the application is submitted, the applicant must provide a description of the process it will use to select LEAs to participate;

(b) Describe the process it will use to consult with participating LEAs to develop a formula to be used to generate school safety scores required under the program;

(c) Describe its plan to maintain, improve, or build State-level capacity to conduct the following activities:

(1) Developing, adapting, or adopting valid and reliable survey instruments.

(2) Administering surveys using established sampling and administration methodologies to ensure adequate school-level representation and high response rates.

(3) Tracking costs by major component (e.g., student survey data collection).

(4) Safeguarding the privacy and confidentiality of the survey respondents and complying with the requirements of the Protection of Pupil Rights Amendment, 20 U.S.C. 1232h; 34 CFR part 98 in collecting survey data and with the requirements of the Family Educational Rights and Privacy Act, 20 U.S.C. 1232g; 34 CFR part 99 in collecting any survey or incident data containing personally identifiable information;

(d) Provide a brief description of the specific constructs to be included on any survey instruments, including constructs used to assess school safety;

(e) Explain the strategies it will use to identify and address any anticipated challenges (including statutory or regulatory requirements) involved in collecting the required data in the participating LEAs. At a minimum, each applicant must identify and address anticipated barriers to obtaining high response rates for surveys;

(f) Describe how it will use the data collected from the measurement system and the school safety scores generated from such data to engage families and guardians in a discussion of the findings; to examine how a school's setting, policies, and practices promote or inhibit student safety from physical violence; and to examine how a school's setting, policies, and practices might reduce disruptive behaviors while reducing suspensions and expulsions;

(g) Describe how it will provide technical assistance to participating LEAs and their schools on the use, meaning, and application of required survey data and incident data (as defined in this notice);

(h) Describe the strategies it will use to consult with participating LEAs to identify and implement programmatic interventions (as defined in this notice) in identified schools that respond to needs identified by data collected through the measurement system; and

(i) Comply with the requirements of any evaluation of the program conducted by the Department, including by sharing all data collected through the measurement system with the Department or an evaluator selected by the Department.

Administrative Requirement: Although programmatic interventions will be delivered at the LEA level, the SEA must retain administrative direction and fiscal control for the project.

Definitions: We are establishing these definitions for the FY 2010 grant competition and any subsequent year in which we make awards from the list of unfunded applicants from this competition, in accordance with section 437(d)(1) of GEPA, 20 U.S.C. 1232(d)(1).

Conditions for learning means the school setting, which includes, at a minimum, school safety, and which may include school environment and school engagement.

Eligible school means any school that includes 9th grade, 10th grade, 11th grade, or 12th grade.

Incident data means data from incident reports by school officials including, but not limited to, truancy rates; the frequency, seriousness, and incidence of violence and drug-related offenses resulting in suspensions and expulsions; and the incidence and prevalence of drug use and violence by students in schools.

Moderate evidence means evidence from previous studies with designs that can support causal conclusions (i.e., studies with high internal validity) but have limited generalizability (i.e., moderate external validity) or from studies with high external validity but moderate internal validity.

Persistently lowest-achieving schools means, as determined by the State, (a)(1) any Title I school in improvement, corrective action, or restructuring that (i) is among the lowest-achieving five percent of Title I schools in improvement, corrective action, or restructuring or the lowest-achieving five Title I schools in improvement, corrective action, or restructuring in the State, whichever number of schools is greater; or (ii) is a high school that has had a graduation rate as defined in 34 CFR 200.19(b) that is less than 60 percent over a number of years; and (2) any secondary school that is eligible for, but does not receive, Title I funds that (i) is among the lowest-achieving five percent of secondary schools or the lowest-achieving five secondary schools in the State that are eligible for, but do not receive, Title I funds, whichever number of schools is greater; or (ii) is a high school that has had a graduation rate as defined in 34 CFR 200.19(b) that is less than 60 percent over a number of years.

Programmatic intervention means any program, strategy, activity, service, or policy for school or community settings that prevents and reduces youth crime, violence, harassment, bullying, and the illegal use of drugs, alcohol, and tobacco; creates positive relationships between students and adults; promotes parent and community engagement; promotes the character, social, and emotional development of students; provides or improves access to social services; enables school communities to manage student behaviors effectively while lowering suspensions and expulsions; or provides other needed social and emotional supports for students. Programmatic interventions should be based on the best available evidence, including, where available, strong or moderate evidence (as defined in this notice).

School engagement means participation in school-related activities, and the quality of school relationships, which may include relationships between and among administrators, teachers, parents and students.

School environment means the extent to which school settings promote student safety and student health, which may include topics such as the physical plant, the academic environment, available physical and mental health supports and services, and the fairness and adequacy of disciplinary procedures, as supported by relevant research and an assessment of validity.

School safety means the safety of school settings, based on factors which may include topics such as the presence and use of illegal drugs (including alcohol use), bullying, and violence, as supported by relevant research and an assessment of validity.

School safety score means a figure calculated with a formula, developed by the State in consultation with LEAs and applied uniformly to all eligible schools in participating LEAs within the State, that uses both the survey data and incident data (as defined in this notice) collected by a measurement system, and that facilitates school comparisons.

Strong evidence means evidence from studies with designs that can support causal conclusions (i.e., studies with high internal validity), and studies that, in total, include enough of the range of participants and settings to support scaling up to the State, regional, or national level (i.e., studies with high external validity).

Valid and reliable survey instruments mean intact sets of survey questions that have been demonstrated statistically to produce results that are both consistently and accurately measuring appropriate concepts of interest for the age groups surveyed.

Waiver of Proposed Rulemaking: Under the Administrative Procedure Act (5 U.S.C. 553), the Department generally offers interested parties the opportunity to comment on proposed priorities, definitions, requirements. Section 437(d)(1) of GEPA, however, allows the Secretary to exempt from rulemaking requirements, regulations governing the first grant competition under a new or substantially revised program authority. This is the first grant competition for Safe and Supportive Schools and, therefore qualifies for this exemption. In order to ensure timely grant awards, the Secretary has decided to forgo public comment on the priorities, requirements, and definitions under section 437(d)(1) of GEPA. These priorities, requirements, and definitions will apply to the FY 2010 grant competition and any subsequent year in which we make awards from the list of unfunded applicants from this competition.

Program Authority: 20 U.S.C. 7131.

Applicable Regulations: (a) The Education Department General Administrative Regulations (EDGAR) in 34 CFR parts 75, 77, 79, 80, 81, 82, 84, 85, 97, 98, and 99. (b) The regulations in 34 CFR part 299.

II. Award Information

Type of Award: Discretionary grants.

Estimated Available Funds: $27,300,000.

Contingent upon the availability of funds and the quality of applications, we may make additional awards in FY 2011 from the list of unfunded applicants from this competition.

Estimated Range of Awards: $1,000,000-$12,000,000.

Estimated Average Size of Awards: $1 million per year for a State with up to 199,999 students enrolled; $2.5 million per year for a State with 200,000-499,999 students enrolled; $3.5 million per year for a State with 500,000—999,999 students enrolled; $6 million per year for a State with 1,000,000-1,999,999 students enrolled; and $12 million per year for a State with at least 2,000,000 students enrolled. Award ranges are based on 2008-2009 school year enrollment data submitted by SEAs through the National Center for Education Statistics.

Estimated Number of Awards: 5-7.

Note: The Department is not bound by any estimates in this notice. The Department will decide on the size of each SEA's award based on a detailed review of the budget the SEA requests, considering such factors as the size of the State, level of LEA participation, and the proposed activities.

Project Period: Up to 48 months, of which no more than 12 months may be used for planning and program design.

III. Eligibility Information

1. Eligible Applicants: SEAs, as defined by section 9101(41) of the ESEA.

2. Cost Sharing or Matching: This program does not require cost sharing or matching.

3. Participation by Private School Children and Teachers. Section 9501 of the ESEA requires that SEAs, LEAs, or other entities receiving funds under the Safe and Drug-Free Schools and Communities Act provide for the equitable participation of private school children, their teachers, and other educational personnel in private schools located in geographic areas served by the grant recipient.

In order to ensure that grant program activities address the needs of private school children, the applicant must engage in timely and meaningful consultation with appropriate private school officials during the design and development of the proposed program. This consultation must take place before the applicant makes any decision that affects the opportunities of eligible private school children, teachers, and other educational personnel to participate in grant program activities.

IV. Application and Submission Information

1. Address to Request Application Package: You can obtain an application package via the Internet, from the Education Publications Center (ED Pubs), or from the program office.

To obtain a copy via the Internet, use the following address: http://www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application from ED Pubs, be sure to identify this program as follows: CFDA number 84.184Y.

To obtain a copy from the program office, contact: Bryan Williams, U.S. Department of Education, 400 Maryland Avenue, SW., Potomac Center Plaza, Room 10120, Washington, DC 20202-6450. Telephone: (202) 245-7883 or by e-mail: bryan.williams@ed.gov. If you use a TDD, call the Federal Relay Service (FRS), toll free, at 1-800-877-8339.

Individuals with disabilities can obtain a copy of the application package in an accessible format (e.g., braille, large print, audiotape, or computer diskette) by contacting the program contact person listed in section VII of this notice.

2. Content and Form of Application Submission: Requirements concerning the content of an application, together with the forms you must submit, are in the application package for this program.

3. Submission Dates and Times:

Applications Available: July 9, 2010.

Deadline for Transmittal of Applications: August 9, 2010.

Applications for grants under this program must be submitted electronically using the Electronic Grant Application System (e-Application) accessible through the Department's e-Grants site. For information (including dates and times) about how to submit your application electronically, or in paper format by mail or hand delivery if you qualify for an exception to the electronic submission requirement, please refer to section IV.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: Grant funds may not be used for construction, except for minor remodeling needed to accomplish the purposes of this program, or for medical services, drug treatment, or rehabilitation except for pupil services or referral to treatment for students who are victims of, or witnesses to, crime or who illegally use drugs.

We reference additional regulations outlining funding restrictions in the Applicable Regulations section of this notice.

6. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this program must be submitted electronically unless you qualify for an exception to this requirement in accordance with the instructions in this section.

a. Electronic Submission of Applications.

Applications for grants under Safe and Supportive Schools—CFDA Number 84.184Y must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application system will not accept an application for this program [competition] after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Bryan Williams, U.S. Department of Education, 400 Maryland Avenue, SW., Potomac Center Plaza, Room 10120, Washington, DC 20202-6450. FAX: (202) 485-0013.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.184Y), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.184Y), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for this program are from 34 CFR 75.210 of EDGAR and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Department has established the following Government Performance and Results Act of 1993 (GPRA) performance measures for Safe and Supportive Schools—

(a) Percentage of eligible schools implementing programmatic interventions funded by Safe and Supportive Schools that experience a decrease in the percentage of students who report current (30-day) alcohol use;

(b) Percentage of eligible schools implementing programmatic interventions funded by Safe and Supportive Schools that experience an increase in the percentage of students who report current (30-day) alcohol use;

(c) Percentage of eligible schools implementing programmatic interventions funded by Safe and Supportive Schools that experience a decrease in the percentage of students who report personal harassment or bullying on school property during the current school year;

(d) Percentage of eligible schools implementing programmatic interventions funded by Safe and Supportive Schools that experience an increase in the percentage of students who report personal harassment or bullying on school property during the current school year;

(e) Percentage of eligible schools implementing programmatic interventions funded by Safe and Supportive Schools that experience an improvement in their school safety score;

(f) Percentage of eligible schools implementing programmatic interventions funded by Safe and Supportive Schools that experience a worsening in their school safety score;

(g) Percentage of eligible schools implementing programmatic interventions funded by Safe and Supportive Schools that experience a decrease in the number of suspensions for violent incidents without physical injury;

(h) Percentage of eligible schools implementing programmatic interventions funded by Safe and Supportive Schools that experience an increase in the number of suspensions for violent incidents without physical injury.

These measures constitute the Department's indicators of effectiveness for this program. Consequently, we advise an applicant for a grant under this program to give careful consideration to these measures in conceptualizing the approach and evaluation for its proposed project. Each grantee will be required to provide, in its annual performance and final reports, data with regard to these measures.

VII. Agency Contact

FOR FURTHER INFORMATION CONTACT: Bryan Williams, U.S. Department of Education, 400 Maryland Avenue, SW., Potomac Center Plaza, Room 10120, Washington, DC 20202-6450. Telephone: (202) 245-7883 or by e-mail: bryan.williams@ed.gov.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 6, 2010.
Kevin Jennings,
Assistant Deputy Secretary for Safe and Drug-Free Schools.

[FR Doc. 2010-16811 Filed 7-8-10; 8:45 am]

BILLING CODE 4000-01-P